DEPARTMENT OF STATE

[Delegation of Authority No. 614]

Delegation of Authority Under Presidential Proclamation 10998 “Restricting and Limiting the Entry of Foreign Nationals To Protect the United States” and Related INA 212(f) Presidential Proclamations

By virtue of the authority vested in the Secretary of State by the laws of the United States, including Section 1 of the State Department Basic Authorities Act, as amended (22 U.S.C. 2651a), the Presidential Proclamation of December 16, 2025 (“PP 10998”), the Presidential Proclamation of June 4, 2025 (“PP 10949”) as continued and supplemented by PP 10998, and any subsequent Presidential Proclamations that continue or supplement PP 10998 or PP 10949, I hereby delegate to the Assistant Secretary for Consular Affairs, to the extent authorized by law, the authority under sections 6(d) through 6(f) of PP 10998, sections 4(c) and 4(d) of PP 10949 as continued and supplemented by PP 10998, and relevant authority in subsequent Proclamations to determine that travel by a foreign national would serve a United States national interest.

The Secretary, Deputy Secretary, Deputy Secretary for Management and Resources, and the Under Secretary for Management may exercise any function or authority delegated by this delegation. The authorities delegated herein may be redelegated, to the extent authorized by law.

This delegation of authority supersedes Delegation of Authority 588 and will be published in the Federal Register.

Dated: January 28, 2026.
Marco Rubio,
Secretary of State, U.S. Department of State.

[FR Doc. 2026-02762 Filed 2-10-26; 8:45 am]

BILLING CODE 4710-06-P